COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List previously furnished by nonprofit agencies employing persons who are blind or have other severe disabilities.

DATES: Date deleted from the Procurement List: June 24, 2018.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 4/20/2018 (83 FR 77), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

8410-01-466-4892—Slacks, Dress, Coast Guard, Women's, Blue, 16JS

8410-01-466-4905—Slacks, Dress, Coast Guard, Women's, Blue, 12MS

8410-01-466-4906—Slacks, Dress, Coast Guard, Women's, Blue, 14MS

8410-01-466-4912—Slacks, Dress, Coast Guard, Women's, Blue, 18MR

8410-01-466-4914—Slacks, Dress, Coast Guard, Women's, Blue, 8ML

8410-01-466-4915—Slacks, Dress, Coast Guard, Women's, Blue, 12ML

8410-01-466-4926—Slacks, Dress, Coast Guard, Women's, Blue, 14WS

8410-01-466-4930—Slacks, Dress, Coast Guard, Women's, Blue, 12WR

8410-01-466-4935—Slacks, Dress, Coast Guard, Women's, Blue, 12WL

8410-01-466-6326—Slacks, Dress, Coast Guard, Women's, Blue, 4JR

8410-01-466-6332—Slacks, Dress, Coast Guard, Women's, Blue, 6JS

8410-01-466-6485—Slacks, Dress, Coast Guard, Women's, Blue, 8JL

8410-01-466-6486—Slacks, Dress, Coast Guard, Women's, Blue, 4MS

8410-01-466-8155—Slacks, Dress, Coast Guard, Women's, Blue, 10JS

8410-01-466-8157—Slacks, Dress, Coast Guard, Women's, Blue, 12JS

8410-01-466-8161—Slacks, Dress, Coast Guard, Women's, Blue, 18JS

8410-01-466-8172—Slacks, Dress, Coast Guard, Women's, Blue, 18JL

8410-01-466-8176—Slacks, Dress, Coast Guard, Women's, Blue, 16MS

8410-01-466-8195—Slacks, Dress, Coast Guard, Women's, Blue, 18ML

8410-01-466-8197—Slacks, Dress, Coast Guard, Women's, Blue, 20ML

8410-01-466-8199—Slacks, Dress, Coast Guard, Women's, Blue, 16WS

8410-01-466-8203—Slacks, Dress, Coast Guard, Women's, Blue, 18WL

8410-01-466-8207—Slacks, Dress, Coast Guard, Women's, Blue, 20WL

8410-01-466-8211—Slacks, Dress, Coast Guard, Women's, Blue, 22WL

Mandatory Source of Supply: VGS, Inc., Cleveland, OH.

Contracting Activity: Defense Logistics Agency Troop Support.

Services

Service Type: Food Service and Food Service Attendant Service.

Mandatory for: Fort Hood: Postwide, Fort Hood, TX.

Mandatory Source of Supply: Unknown.

Contracting Activity: Dept of the Army, W40M NORTHEREGION Contract Ofc.

Service Type: Janitorial/Custodial Service.

Mandatory for: Naval & Marine Corps Readiness Reserve Center, Providence, RI.

Mandatory Source of Supply: The Fogarty Center, North Providence, RI.

Contracting Activity: Dept of the Navy, Navy Crane Center.

Service Type: Janitorial/Custodial Service.

Mandatory for: Des Moines International Airport: Air National Guard Base, Des Moines, IA.

Mandatory Source of Supply: Goodwill Solutions, Inc., Johnston, IA.

Contracting Activity: Dept of the Air Force, FA7014 AFDW PK.

Service Type: Repair of Strap, Air Cargo (1670-00-725-1437) Service.

Mandatory for: Robins Air Force Base, Robins AFB, GA.

Mandatory Source of Supply: Houston County Association for Exceptional Citizens, Inc., Warner Robins, GA.

Contracting Activity: Dept of the Air Force, FA8501 AFSC PZIO.

Amy Jensen,
Director, Business Operations.

[FR Doc. 2018-11332 Filed 5-24-18; 8:45 am]

BILLING CODE 6353-01-P